DEPARTMENT OF HEALTH AND HUMAN SERVICES

National Institutes of Health

Submission for OMB Review; Comment Request; NIH Toolbox for Assessment of Neurological and Behavioral Function

Summary: Under the provisions of Section 3507(a)(1)(D) of the Paperwork Reduction Act of 1995, the National Institute on Aging (NIA), the National Institutes of Health (NIH), has submitted to the Office of Management and Budget (OMB) a request to review and approve the information collection listed below. This proposed information collection was previously published in the Federal Register on January 11, 2011 (Vol. 76, No. 7, p. 1621) and allowed 60-days for public comment. No comments were received.

Proposed Collection: Title: NIH Toolbox for Assessment of Neurological and Behavioral Function. Type of Information Collection Request: New. Need and Use of Information Collection: The overall goal of the Toolbox project is to develop unified, integrated methods and measures of four domains of neurological and behavioral functioning (cognitive, emotional, motor and sensory) for use in large longitudinal or epidemiological studies where functioning is monitored over time. The current phase (“Norming”), will involve a large sample of 12,900 for the purpose of establishing comparative norms. The targeted population will be non-institutionalized U.S. residents, aged 3-85 years, with 70% English-speaking and 30% Spanish-speaking. Frequency of Response: Once or twice (depending on subsample). Affected Public: Individuals. Type of Respondents: U.S. residents (persons aged 3-85 years). The annual reporting burden is as follows: Estimated Number of Respondents: 12,900; Estimated Number of Responses per Respondent: 1-2; Average Burden Hours per Response: 1.96; and Estimated Total Annual Burden Hours Requested: 29,700. The annualized cost to respondents is estimated at: $414,375. There are no Capital Costs, Operating Costs, and/or Maintenance Costs to report.

Type of respondents | Number of respondents | Frequency of response | Average burden hours per response | Annual hour burden | Hourly wage rate | Cost to respond
U.S. Residents | 12,900 | 1-2 | 1.96 (118 minutes) | 29,700 | $25.00 | $414,375

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the Attention: NIH Desk Officer, Office of Management and Budget, at OIRA_submission@omb.eop.gov or by fax to 202-395-6974. To request more information on the proposed project or to obtain a copy of the data collection plans and instruments, contact Eddie Billingslea, PhD, Division of Neuroscience, National Institute on Aging, NIH, DHHS, 7201 Wisconsin Avenue, Suite 350, Bethesda, Maryland 20892-9205 or call non-toll-free number 301-496-9350 or e-mail your request, including your address to: billingsleae@nia.nih.gov.

Comments Due Date: Comments regarding this information collection are best assured of having their full effect if received within 30 days of the date of this publication.

Dated: April 11, 2011.
Taryn Ayoub,
Project Clearance Liaison, National Institute on Aging, National Institutes of Health.

[FR Doc. 2011-9511 Filed 4-19-11; 8:45 am]

BILLING CODE 4140-01-P